TENNESSEE VALLEY AUTHORITY

Cheatham County Generation Site Environmental Impact Statement

AGENCY: Tennessee Valley Authority.

ACTION: Notice of Intent; extension of comment period.

SUMMARY: The Tennessee Valley Authority (TVA) is announcing an extension of the public comment period on the Cheatham County Generation Site Notice of Intent to Prepare an Environmental Impact Statement. A Notice of Intent to prepare an EIS was published in the Federal Register on May 19, 2023, announcing a 30-day comment period closing on June 20, 2023. This notice serves to extend the comment period by 7 days until June 27, 2023.

DATES: The comment period for the Notice of Intent published May 19, 2023, at 88 FR 32267, is extended to June 27, 2023. Comments must be postmarked, emailed, or submitted online no later than June 27, 2023.

ADDRESSES: Comments can be submitted by one of the following methods:

1. TVA's NEPA website: https://www.tva.gov/nepa. Follow the instructions for submitting comments electronically on the website.

2. Email: NEPA@tva.gov.

3. Mail comments to: J. Taylor Johnson, NEPA Compliance Specialist, 1101 Market Street, BR 2C-C, Chattanooga, Tennessee 37402.

Before including your address, phone number, email address, or other personal identifying information in your comment, please note that any comments received, including names and addresses, will become part of the project administrative record and will be available for public inspection.

FOR FURTHER INFORMATION CONTACT: For general information about the project, please contact J. Taylor Johnson, NEPA Compliance Specialist, by mail at 1101 Market Street, BR 2C-C, Chattanooga, Tennessee 37402, by email at nepa@tva.gov, or by phone at 423-751-2732.

SUPPLEMENTARY INFORMATION: The Cheatham County Generation Site (CHG) would generate approximately 900 Megawatts (MW) and replace generation capacity for a portion of the Cumberland Fossil Plant (CUF) second unit retirement planned by the end of 2028. The CHG CTs would be composed of multiple natural gas-fired frame CTs and natural gas-fired and oil-fired (i.e., dual-fuel) Aeroderivative CTs. CHG would provide flexible and dispatchable transmission grid support and facilitate the integration of renewable generation onto the TVA bulk transmission system, consistent with the 2019 Integrated Resource Plan. TVA is inviting public comment concerning the scope of the EIS, alternatives being considered, and environmental issues that should be addressed as a part of this EIS.

On May 19, 2023, TVA published a Notice of Intent to prepare an EIS to address the potential environmental impacts associated with the proposed construction and operation of a simple cycle Combustion Turbine (CT) plant and Battery Energy Storage System (BESS) on a parcel of TVA-owned land in Cheatham County, Tennessee. The open house that TVA planned to have on May 24, 2023, has been rescheduled and will be held on June 21, 2023. Because of the rescheduling of the open house, the comment period will remain open until June 27, 2023, so commenters have a week after the open house to provide their comments. The TVA website listed above contains relevant information about the open house and the proposed project. TVA urges the public to review this information on the website prior to submitting comments.

Susan Jacks,
General Manager, Environmental Resource Compliance.

[FR Doc. 2023-13116 Filed 6-16-23; 8:45 am]

BILLING CODE 8120-08-P